DEPARTMENT OF VETERANS AFFAIRS

[OMB Control No. 2900-0671]

Proposed Information Collection (Traumatic Injury Protection (TSGLI)) Activity; Comment Request; Withdrawal

AGENCY: Veterans Benefits Administration, Department of Veterans Affairs.

ACTION: Notice; withdrawal of request for comments.

SUMMARY: In compliance with the Paperwork Reduction Act of 1995 (44 U.S.C. 3501-3521), the Department of Veterans Affairs (VA) published a collection of information notice in the Federal Register on October 23, 2008, at 73 FR 63229, announcing an opportunity for public comment on the proposed collection of certain information by the agency. The notice solicited comments on information needed to determine servicemembers' eligibility requirements for payment of traumatic injury protection benefits covered under Servicemembers' Group Live Insurance. With respect to the collection of information in that notice, we are withdrawing our request for comments because it was necessary to seek an immediate OMB approval on an emergency basis under 44 U.S.C. 3507(j). VA has submitted a copy of the amended TSGLI form (Servicemembers' Group Life Insurance Traumatic Injury Protection Application for TSGLI Benefits) to OMB for an emergency approval. This document withdraws the October 23, 2008 notice.

FOR FURTHER INFORMATION CONTACT: Denise McLamb, Records Management Service (005R1B), Department of Veterans Affairs, 810 Vermont Avenue, NW., Washington, DC 20420, at 202-461-7485.

Dated: November 19, 2008.
By direction of the Secretary.
Denise McLamb,
Program Analyst, Records Management Service.

[FR Doc. E8-28185 Filed 11-25-08; 8:45 am]

BILLING CODE 8320-01-P